DEPARTMENT OF ENERGY

[Docket No. EA-224]

Application To Export Electric Energy; Dominion Resources

AGENCY: Office of Fossil Energy, DOE.

ACTION: Notice of application.

SUMMARY: Dominion Resources, on behalf of its subsidiaries, Virginia Electric and Power Company and Dominion Energy, Inc., has applied for authority to transmit electric energy from the United States to Canada pursuant to section 202(e) of the Federal Power Act.

DATES: Comments, protests or requests to intervene must be submitted on or before July 10, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Xavier Puslowski (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On May 16, 2000, the Office of Fossil Energy (FE) of the Department of Energy (DOE) received an application from Dominion Resources to export electric energy to Canada on behalf of two of its operating subsidiaries, Virginia Electric and Power Company (“Virginia Power”) and Dominion Energy Inc. (“Dominion Energy”). Dominion Resources requests DOE to renew Virginia Power's existing export authorization granted by DOE on July 16, 1998, (Order No. EA-180) and to grant new export authority to Dominion Energy to sell electric energy to Canada.

Virginia Power owns generation, transmission and distribution facilities in Virginia and North Carolina and has a franchised service area. Dominion Energy, an independent producer of power operating in five U.S. States, has no franchised service territory.

Virginia Power and Dominion Energy propose to export electric energy to Canada using the existing international electric transmission facilities owned by Basin Electric Power Cooperative, Bonneville Power Administration, Citizens Utilities, Detroit Edison Company, Joint Owners of Highgate, Long Sault, Inc., Maine Electric Power Company, Maine Public Service, Eastern Maine Electric Cooperative, Minnesota Power and Light, Minnkota Power, New York Power Authority, Niagara Mohawk Power Corporation, Northern States Power and Vermont Electric Transmission Company. The construction of each of the international transmission facilities to be utilized, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Dominion Resources application to export electric energy to Canada should be clearly marked with Docket EA-224. Additional copies are to be filed directly with Michael C. Regulinski, Esq., Virginia Electric and Power Co, 1 James River Plaza, 701 East Carey Street, Richmond, Virginia 23219 and James H. McGrew, Esq., Bruder, Gentile & Marcoux, LLP., 1100 New York Avenue, N.W., Suite 510 East, Washington, D.C. 20005-3934.

A final decision will be made on this application after the environmental impacts have been evaluated pursuant to the National Environmental Policy Act of 1969 and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory,” then “Electricity,” and then “Pending Proceedings” from the options menus.

Issued in Washington, DC, on June 5, 2000.
Anthony J. Como,
Deputy Director, Electric Power Regulation, Office of Coal & Power Im/Ex, Office of Coal & Power Systems, Office of Fossil Energy.

[FR Doc. 00-14593 Filed 6-8-00; 8:45 am]

BILLING CODE 6450-01-U